DEPARTMENT OF COMMERCE

International Trade Administration

[A-570-965]

Drill Pipe from the People's Republic of China: Initiation of Antidumping Duty Investigations

EFFECTIVE DATE: January 28, 2010.

FOR FURTHER INFORMATION CONTACT: Toni Dach or Scot T. Fullerton, AD/CVD Operations, Office 9, (202) 482-1655 or (202) 482-1386, respectively; Import Administration, International Trade Administration, U.S. Department of Commerce, 14th Street and Constitution Avenue, NW, Washington, DC 20230.

SUPPLEMENTARY INFORMATION: On December 31, 2009¹, the Department of Commerce (the “Department”) received a petition concerning imports of drill pipe from the People's Republic of China (“PRC”) filed in proper form by VAM Drilling USA, Inc., Texas Steel Conversion, Inc., Rotary Drilling Tools, TMK IPSCO, and the United Steel, Paper and Forestry, Rubber, Manufacturing, Energy, Allied Industrial and Service Workers International Union, AFL-CIO-CLC (“Petitioners”). See “Petitions for the Imposition of Antidumping and Countervailing Duties: Drill Pipe from the People's Republic of China,” dated December 31, 2009 (“Petition”). On January 6, 2010, the Department issued additional requests for information and clarification of certain areas of the Petition. Petitioners timely filed additional information on January 11, 2010. See “Drill Pipe from the People's Republic of China,” dated January 11, 2010 (“Supplement to the PRC AD Petition”). In addition, Petitioners further timely filed additional information pertaining to general issues in the Petition on January 11, 2010. See “Petition for the Imposition of Antidumping Duties on Drill Pipe from the PRC: Response to Department's Letter of January 6, 2010,” dated January 11, 2010 (“Supplement to the AD/CVD Petitions”). On January 14, 2010, the Department issued a second request for information and clarification of certain areas of the Petition. Petitioners timely filed additional information on January 15, 2010. See “Petitions for the Imposition of Antidumping and Countervailing Duties: Response to the Department's Letter of January 14, 2010,” dated January 15, 2010 (“Second Supplement to the AD/CVD Petitions”); see also “Petitions for the Imposition of Antidumping and Countervailing Duties: Drill Pipe from the PRC: Response to Department's Letter of January 14, 2010: Additional Affidavit, dated January 15, 2010 (“Third Supplement to the AD/CVD Petitions”). On January 19, 2010, Petitioners filed further clarifications related to general issues. See “Petitions for the Imposition of Antidumping and Countervailing Duties: Drill Pipe from the PRC: Response to the Department's letter of January 14, 2010: Additional Affidavit,” dated January 19, 2010 (“Fourth Supplement to the AD/CVD Petitions”).

¹ The Petitioners filed the Petition at the International Trade Commission (“ITC”) after 12:00 noon on December 30, 2009, therefore, pursuant to 19 CFR 207.10(a), the ITC deemed the Petition to have been filed on the next business day, December 31, 2009. Section 732(b)(2) of the Tariff Act of 1930, as amended (the “Act”) requires simultaneous filings of antidumping duty petitions with the Department and the ITC, therefore, we deem the Petition to have been filed with the Department on December 31, 2009. This file date will change the initiation date from January 19, 2009, to January 20, 2009. See Memorandum to Ronald K. Lorentzen, entitled “Decision Memorandum Concerning Petitions Filing Date,” dated concurrently with this checklist.

In addition, on both January 15, and January 19, 2010, we received comments filed by Lehnardt & Lehnardt, LLC, on behalf of Downhole Pipe & Equipment, LP (“Downhole Pipe”) and Command Energy Services International (“Command Energy”), U.S. importers of drill pipe from China. Downhole Pipe and Command Energy are interested parties as defined by section 771(9)(A) of the Act.

The period of investigation (“POI”) is April 1, 2009, through September 30, 2009. See 19 CFR 351.204(b)(1).

In accordance with section 732(b) of the Act, Petitioners allege that imports of drill pipe from the PRC are being, or are likely to be, sold in the United States at less than fair value, within the meaning of section 731 of the Act, and that such imports are materially injuring, or threatening material injury to, an industry in the United States.

The Department finds that Petitioners filed the Petition on behalf of the domestic industry because Petitioners are an interested party, as defined in section 771(9)(C) and (D) of the Act, and have demonstrated sufficient industry support with respect to the antidumping duty investigation that Petitioners are requesting the Department to initiate (see “Determination of Industry Support for the Petition” section below).

Scope of the Investigation

The product covered by this investigation is drill pipe from the PRC. For a full description of the scope of the investigation, please see “Scope of Investigation,” in Appendix I of this notice.

Comments on Scope of the Investigation

During our review of the Petition, we discussed the scope with Petitioners to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages interested parties to submit such comments by Wednesday, February 10, 2010, which is twenty calendar days from the signature date of this notice. Comments should be addressed to Import Administration's APO/Dockets Unit, Room 1870, U.S. Department of Commerce, 14th Street and Constitution Avenue, NW, Washington, DC 20230. The period of scope consultations is intended to provide the Department with ample opportunity to consider all comments and to consult with parties prior to the issuance of the preliminary determination.

Comments on Product Characteristics for Antidumping Duty Questionnaires

We are requesting comments from interested parties regarding the appropriate physical characteristics of drill pipe to be reported in response to the Department's antidumping questionnaires. This information will be used to identify the key physical characteristics of the merchandise under consideration in order to more accurately report the relevant factors and costs of production, as well as to develop appropriate product comparison criteria.

Interested parties may provide information or comments that they believe are relevant to the development of an accurate listing of physical characteristics. Specifically, they may provide comments as to which characteristics are appropriate to use as: 1) general product characteristics; and 2) the product comparison criteria. We note that it is not always appropriate to use all product characteristics as product comparison criteria. We base product comparison criteria on meaningful commercial differences among products. In other words, while there may be some physical product characteristics utilized by manufacturers to describe drill pipe, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping duty questionnaires, we must receive comments at the above-referenced address by February 10, 2010. Additionally, rebuttal comments must be received by February 17, 2010.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A); or (ii) determine industry support using a statistically valid sampling method to poll the industry.

Section 771(4)(A) of the Act defines the “industry” as the producers as a whole of a domestic like product. Thus, to determine whether a petition has the requisite industry support, the statute directs the Department to look to producers and workers who produce the domestic like product. The IITC, which is responsible for determining whether “the domestic industry” has been injured, must also determine what constitutes a domestic like product in order to define the industry. While both the Department and the ITC must apply the same statutory definition regarding the domestic like product (see section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (CIT 2001), citing Algoma Steel Corp., Ltd. v. United States, 688 F. Supp. 639, 644 (CIT 1988), aff'd 865 F.2d 240 (Fed. Cir. 1989), cert. denied 492 U.S. 919 (1989).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, Petitioners do not offer a definition of domestic like product distinct from the scope of the investigations. Based on our analysis of the information submitted on the record, we have determined that drill pipe constitutes a single domestic like product and we have analyzed industry support in terms of that domestic like product. For a discussion of the domestic like product analysis in this case, see Antidumping Duty Investigation Initiation Checklist: Drill Pipe from the People's Republic of China (“Checklist”), at Attachment II, Industry Support, on file in the Central Records Unit, Room 1117 of the main Department of Commerce building.

In determining whether Petitioners have standing under section 732(c)(4)(A) of the Act, we considered the industry support data contained in the Petition with reference to the domestic like product as defined in the “Scope of Investigations” section above. To establish industry support, Petitioners provided their production of the domestic like product in 2008, and compared this to the estimated total production of the domestic like product for the entire domestic industry. See Volume I of the Petition at 2-3; see also Supplement to the AD/CVD Petitions at 6-13 and Exhibit 3; Second Supplement to the AD/CVD Petitions at 1-4 and Exhibits 1-3; Third Supplement to the AD/CVD Petitions at Exhibit 1; and Fourth Supplement to the AD/CVD Petitions at Exhibit 1. To estimate 2008 production of the domestic like product, Petitioners used their own data and industry specific knowledge. See Second Supplement to the AD/CVD Petitions at 1-4 and Exhibits 1-3; see also Checklist at Attachment II. We have relied upon data Petitioners provided for purposes of measuring industry support. For further discussion, see Checklist at Attachment II.

Based on information provided in the Petition, supplemental submissions, and other information readily available to the Department, we determine that the domestic producers and workers have met the statutory criteria for industry support under section 732(c)(4)(A)(i) of the Act because the domestic producers (or workers) who support the Petition account for at least 25 percent of the total production of the domestic like product. Because the Petition and supplemental submissions did not establish support from domestic producers (or workers) accounting for more than 50 percent of the total production of the domestic like product, the Department was required to take further action in order to evaluate industry support. See section 732(c)(4)(D) of the Act. In this case, the Department was able to rely on other information, in accordance with section 732(c)(4)(D)(i) of the Act, to determine industry support. See Checklist at Attachment II. Based on information provided in the Petition and other submissions, the domestic producers and workers have met the statutory criteria for industry support under section 732(c)(4)(A)(ii) of the Act because the domestic producers (or workers) who support the Petition account for more than 50 percent of the production of the domestic like product produced by that portion of the industry expressing support for, or opposition to, the Petition. Accordingly, the Department determines that the Petition was filed on behalf of the domestic industry within the meaning of section 732(b)(1) of the Act. See Checklist at Attachment II.

The Department finds that Petitioners filed the Petition on behalf of the domestic industry because it is an interested party as defined in section 771(9)(C) and (D) of the Act and it has demonstrated sufficient industry support with respect to the antidumping duty investigations that it is requesting the Department initiate. Id.

Allegations and Evidence of Material Injury and Causation

Petitioners allege that the U.S. industry producing the domestic like product is being materially injured, or is threatened with material injury, by reason of the imports of the subject merchandise sold at less than normal value (“NV”). In addition, Petitioners allege that subject imports exceed the negligibility threshold provided for under section 771(24)(A) of the Act.

Petitioners contend that the industry's injured condition is illustrated by reduced market share, reduced production, reduced shipments, reduced capacity and capacity utilization, underselling and price depression or suppression, reduced employment, hours worked, and wages paid, decline in financial performance, lost sales and revenue, and increase in import penetration. See Vol. I of the Petition, at 13-25. We have assessed the allegations and supporting evidence regarding material injury, threat of material injury, and causation, and we have determined that these allegations are properly supported by adequate evidence and meet the statutory requirements for initiation. See Checklist at Attachment III, Injury.

Allegations of Sales at Less Than Fair Value

The following is a description of the allegations of sales at less than fair value upon which the Department based its decision to initiate this investigation of imports of drill pipe from the PRC. The sources of data for the deductions and adjustments relating to the U.S. price and the factors of production are also discussed in the initiation checklist. See Checklist.

U.S. Price

Petitioners calculated export price (“EP”) based on documentation of offers for sale obtained from a confidential source. See Checklist; see also Vol. II of the Petition, at 2-4 and Exhibits II-3-B and II-3-C. Based on the terms of sale, Petitioners adjusted the export price for brokerage and handling and foreign domestic inland freight. See Checklist; see also Supplement to the AD PRC Petition at 4-5 and Exhibit 5.

Petitioners also calculated margins based on the weighted average unit value data for the POI of imports from the PRC of drill pipe. Based on the terms of sale, Petitioners adjusted the export price for brokerage and handling and foreign domestic inland freight. Id.

Normal Value

Petitioners claim the PRC is a non-market economy (“NME”) country and that no determination to the contrary has been made by the Department. See Vol. I of the Petition, at 1. In accordance with section 771(18)(C)(i) of the Act, the presumption of NME status remains in effect until revoked by the Department. The presumption of NME status for the PRC has not been revoked by the Department and, therefore, remains in effect for purposes of the initiation of this investigation. Accordingly, the NV of the product for the PRC investigation is appropriately based on factors of production valued in a surrogate market-economy country in accordance with section 773(c) of the Act. In the course of this investigation, all parties, including the public, will have the opportunity to provide relevant information related to the issue of the PRC's NME status and the granting of separate rates to individual exporters.

Petitioners contend that India is the appropriate surrogate country for the PRC because: 1) it is at a level of economic development comparable to that of the PRC and 2) it is a significant producer and exporter of comparable merchandise. See Vol. II of the Petition, at 1-2. Based on the information provided by Petitioners, we believe that it is appropriate to use India as a surrogate country for initiation purposes. After initiation of the investigation, interested parties will have the opportunity to submit comments regarding surrogate country selection and, pursuant to 19 CFR 351.301(c)(3)(i), will be provided an opportunity to submit publicly available information to value factors of production within 40 days after the date of publication of the preliminary determination.

Petitioners calculated NV and the dumping margins using the Department's NME methodology as required by 19 CFR 351.202(b)(7)(i)(C) and 19 CFR 351.408. Petitioners calculated NV based on consumption rates of the factors of production on the average consumption rates of a drill pipe producer in the United States (“Surrogate Domestic Producer”) for identical or similar merchandise. See Vol. II of the Petition, at 5-6 and Exhibit II-1-B. In calculating NV, Petitioners based the quantity of each of the inputs used to manufacture drill pipe in the PRC on product-specific production costs and/or consumption rates of the Surrogate Domestic Producer during the POI. See Vol. II of the Petition, at 6-12 and Exhibits II-1-B, II-4. Petitioners state that the actual usage rates of the foreign manufacturers of drill pipe are not reasonably available; however, Petitioners note that according to the information available, the production of drill pipe relies on similar production methods to the Surrogate Domestic Producer. See Vol. II of the Petition, at 5; see also Supplement to the AD/CVD Petitions at 3-4.

As noted above, Petitioners determined the consumption quantities of all raw materials based on the production experience of the Surrogate Domestic Producer. Petitioners valued the factors of production based on reasonably available, public surrogate country data, specifically, Indian import statistics from the Global Trade Atlas (“GTA”).² See Vol. II of the Petition, at 6; see also Supplement to the AD/CVD Petitions at 5 and Exhibit 5. Petitioners excluded from these import statistics imports from countries previously determined by the Department to be NME countries. Petitioners also excluded import statistics from Indonesia, the Republic of Korea, and Thailand, as the Department has previously excluded prices from these countries because they maintain broadly available, non-industry-specific export subsidies.³ Id. In addition, Petitioners made currency conversions, where necessary, based on the POI-average rupee/U.S. dollar exchange rate, as reported on the Department's web site. See Vol. II of the Petition, at Exhibit II-5. Petitioners determined labor costs using the labor consumption, in hours, derived from the Surrogate Domestic Producer's experience. See Vol. II of the Petition, at 12 and Exhibit II-4-C-1. Petitioners valued labor costs using the Department's NME Wage Rate for the PRC at http://ia.ita.doc.gov/wages/07wages/final/final-2009-2007-wages.html. Id. For purposes of initiation, the Department determines that the surrogate values used by Petitioners are reasonably available and, thus, acceptable for purposes of initiation.

² Petitioners also provided NV calculations based on their purchase price for tool joints. Id; see also Checklist for more discussion on these calculations, as well as the “Fair-Value Comparison” section below.

³ We adjusted Petitioners' data to exclude the inflators used to inflate the contemporaneous GTA data.

Petitioners determined electricity costs using the electricity consumption, in kilowatt hours, derived from the Surrogate Domestic Producer's experience. See Vol. II of the Petition, at 11-12 and Exhibit II-4-C-1; see also Supplement to the AD/CVD Petitions at 3 and Exhibit 3. Petitioners valued electricity using the Indian electricity rate reported by the Central Electric Authority of the Government of India. See Vol. II of the Petition, at 11-12 and Exhibit II-4-C-2.

Petitioners did not identify packing materials used in preparing finished drill pipe. Consequently, Petitioners did not include packing materials in its calculation of normal value. See Second Supplement to the AD/CVD Petitions at 5.

Petitioners based factory overhead, selling, general and administrative, and profit on data from Oil Country Tubular Ltd., a producer of similar merchandise, for the 2008 - 2009 fiscal year. See Vol. II of the Petition, at 12 and Exhibit II- 4-D-1.

Fair-Value Comparisons

Based on the data provided by Petitioners, there is reason to believe that imports of drill pipe from the PRC are being, or are likely to be, sold in the United States at less than fair value. Based on a comparison of U.S. prices and NV calculated in accordance with section 773(c) of the Act, the estimated dumping margins for drill pipe from the PRC, using GTA values for all inputs, range from 429.53 percent to 496.93 percent. See Checklist and Second Supplement to the AD/CVD Petitions at Exhibit 5. In addition, Petitioners provided estimated dumping margins using POI average-unit values for imports of PRC-origin drill pipe into the United States, and Petitioners' own cost data for tool joints. See Checklist at 10.

Initiation of Antidumping Investigation

Based upon the examination of the Petition on drill pipe from the PRC, the Department finds the Petition meets the requirements of section 732 of the Act. Therefore, we are initiating an antidumping duty investigation to determine whether imports of drill pipe from the PRC are being, or are likely to be, sold in the United States at less than fair value. In accordance with section 733(b)(1)(A) of the Act and 19 CFR 351.205(b)(1), unless postponed, we will make our preliminary determinations no later than 140 days after the date of this initiation.

Targeted-Dumping Allegations

On December 10, 2008, the Department issued an interim final rule for the purpose of withdrawing 19 CFR 351.414(f) and (g), the regulatory provisions governing the targeted- dumping analysis in antidumping duty investigations, and the corresponding regulation governing the deadline for targeted-dumping allegations, 19 CFR 351.301(d)(5). See Withdrawal of the Regulatory Provisions Governing Targeted Dumping in Antidumping Duty Investigations, 73 FR 74930 (December 10, 2008). The Department stated that “withdrawal will allow the Department to exercise the discretion intended by the statute and, thereby, develop a practice that will allow interested parties to pursue all statutory avenues of relief in this area.” Id. at 74931.

In order to accomplish this objective, if any interested party wishes to make a targeted- dumping allegation in either of these investigations pursuant to section 777A(d)(1)(B) of the Act, such allegations are due no later than 45 days before the scheduled date of the preliminary determination.

Respondent Selection

For this investigation, the Department will request quantity and value information from known exporters and producers identified with complete contact information in the Petition. The quantity and value data received from NME exporters/producers will be used as the basis to select the mandatory respondents.

The Department requires that the respondents submit a response to both the quantity and value questionnaire and the separate-rate application by the respective deadlines in order to receive consideration for separate-rate status. See Circular Welded Austenitic Stainless Pressure Pipe from the People's Republic of China: Initiation of Antidumping Duty Investigation, 73 FR 10221, 10225 (February 26, 2008); Initiation of Antidumping Duty Investigation: Certain Artist Canvas From the People's Republic of China, 70 FR 21996, 21999 (April 28, 2005). On the date of the publication of this initiation notice in the Federal Register, the Department will post the quantity and value questionnaire along with the filing instructions on the Import Administration web site at http://ia.ita.doc.gov/ia-highlights-and-news.html, and a response to the quantity and value questionnaire is due no later than February 11, 2010. Also, the Department will send the quantity and value questionnaire to those PRC companies identified in the Petition at Exhibit I-7 and in the Second Supplement to the AD/CVD Petitions at Exhibit 4.

Interested parties must submit applications for disclosure under APO in accordance with 19 CFR 351.305. Instructions for filing such applications may be found on the Department's web site at http://ia.ita.doc.gov/apo.

Separate Rates Application

In order to obtain separate-rate status in NME investigations, exporters and producers must submit a separate-rate status application. See Policy Bulletin 05.1: Separate-Rates Practice and Application of Combination Rates in Antidumping Investigations involving Non-Market Economy Countries, dated April 5, 2005 (“Policy Bulletin”), available on the Department's web site at http://ia.ita.doc.gov/policy/bull05-1.pdf. Based on our experience in processing the separate-rate applications in previous antidumping duty investigations, we have modified the application for this investigation to make it more administrable and easier for applicants to complete. See, e.g., Initiation of Antidumping Duty Investigation: Certain New Pneumatic Off-the-Road Tires From the People's Republic of China, 72 FR 43591, 43594-95 (August 6, 2007). The specific requirements for submitting the separate-rate application in this investigation are outlined in detail in the application itself, which will be available on the Department's web site at http://ia.ita.doc.gov/ia-highlights-and-news.html on the date of publication of this initiation notice in the Federal Register. The separate-rate application will be due 60 days after publication of this initiation notice. For exporters and producers who submit a separate-rate status application and subsequently are selected as mandatory respondents, these exporters and producers will no longer be eligible for consideration for separate rate status unless they respond to all parts of the questionnaire as mandatory respondents. As noted in the “Respondent Selection” section above, the Department requires that respondents submit a response to both the quantity and value questionnaire and the separate rate application by the respective deadlines in order to receive consideration for separate-rate status.

Use of Combination Rates in an NME Investigation

The Department will calculate combination rates for certain respondents that are eligible for a separate rate in this investigation. The Policy Bulletin states:

{W}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.

See Policy Bulletin at 6 (emphasis added).

Distribution of Copies of the Petition

In accordance with section 732(b)(3)(A) of the Act and 19 CFR 351.202(f), copies of the public versions of the Petition have been provided to the representatives of the Government of the PRC. Because of the large number of producers/exporters identified in the Petition, the Department considers the service of the public version of the Petition to the foreign producers/exporters satisfied by the delivery of the public version to the Government of the PRC, consistent with 19 CFR 351.203(c)(2).

ITC Notification

We have notified the ITC of our initiations, as required by section 732(d) of the Act.

Preliminary Determinations by the ITC

The ITC will preliminarily determine, no later than February 16, 2010, whether there is a reasonable indication that imports of drill pipe from the PRC are materially injuring, or threatening material injury to a U.S. industry. A negative ITC determination will result in the investigation being terminated; otherwise, this investigation will proceed according to statutory and regulatory time limits.

This notice is issued and published pursuant to section 777(i) of the Act.

Dated January 20, 2010.
Ronald K. Lorentzen,
Deputy Assistant Secretary for Import Administration.

Appendix I

Scope of the Investigation

The products covered by the investigation are steel drill pipe, and steel drill collars, whether or not conforming to American Petroleum Institute (API) or non-API specifications, whether finished or unfinished (including green tubes suitable for drill pipe), without regard to the specific chemistry of the steel (i.e., carbon, stainless steel, or other alloy steel), and without regard to length or outer diameter. The scope does not include tool joints not attached to the drill pipe, nor does it include unfinished tubes for casing or tubing covered by any other antidumping or countervailing duty order.

The subject products are currently classified in the following Harmonized Tariff Schedule of the United States (HTSUS) categories: 7304.22.0030, 7304.22.0045, 7304.22.0060, 7304.23.3000, 7304.23.6030, 7304.23.6045, 7304.23.6060, 8431.43.8040 and may also enter under 8431.43.8060, 8431.43.4000, 7304.39.0028, 7304.39.0032, 7304.39.0036, 7304.39.0040, 7304.39.0044, 7304.39.0048, 7304.39.0052, 7304.39.0056, 7304.49.0015, 7304.49.0060, 7304.59.8020, 7304.59.8025, 7304.59.8030, 7304.59.8035, 7304.59.8040, 7304.59.8045, 7304.59.8050, and 7304.59.8055.⁴

⁴ Prior to February 2, 2007, these imports entered under different tariff classifications, including 7304.21.3000, 7304.21.6030, 7304.21.6045, and 7304.21.6060.

While HTSUS subheadings are provided for convenience and Customs purposes, the written description of the scope of the investigation is dispositive.

[FR Doc. 2010-1795 Filed 1-27-10; 8:45 am]

BILLING CODE 3510-DS-S